DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On July 18, 2019, OFAC determined that the property and interests in property subject to U.S. jurisdiction of the following persons are blocked under the relevant sanctions authority listed below.

Individuals

1. AL-KILDANI, Rayan (a.k.a. AL-KALDANI, Rayyan; a.k.a. DODI, Rian Salim Sadeq; a.k.a. KALDANI, Rayan), Palestine Street, DIST 505 ST 60 H 19, Baghdad, Iraq; DOB 03 Sep 1989; POB Baghdad, Iraq; nationality Iraq; Gender Male; National ID No. 00365298 (Iraq) (individual) [GLOMAG].

Designated pursuant to section 1(a)(ii)(A) of Executive Order 13818 (E.O. 13818) of December 20, 2017, “Blocking the Property of Persons Involved in Serious Human Rights Abuse or Corruption,” for being a foreign person who is responsible for or complicit in, or has directly or indirectly engaged in, serious human rights abuse.

2. QADO, Waad (a.k.a. EL KADDU, Waad; a.k.a. “Abu Jaffar al-Shabaki”), Iraq; DOB 12 Dec 1971; alt. DOB 01 Jan 1971; POB Mosul, Iraq; nationality Iraq; Gender Male (individual) [GLOMAG].

Designated pursuant to section 1(a)(ii)(C)(1) of E.O. 13818 for being a foreign person who is or has been a leader or official of an entity, the 30th Brigade, that has engaged in, or whose members have engaged in, serious human rights abuse relating to the leader's or official's tenure.

3. AL-SULTAN, Nawfal Hammadi (a.k.a. AL-AKOUB, Nawfal; a.k.a. SULTAN, Nawfal Hamadi), Iraq; DOB 23 Feb 1964; nationality Iraq; Gender Male; National ID No. 71719043 (Iraq) (individual) [GLOMAG].

Designated pursuant to section 1(a)(ii)(B)(1) of E.O. 13818 for being a foreign person who is a current or former government official, or a person acting for or on behalf of such an official, who is responsible for or complicit in, or has directly or indirectly engaged in, corruption, including the misappropriation of state assets, the expropriation of private assets for personal gain, corruption related to government contracts or the extraction of natural resources, or bribery.

4. AL-JUBOURI, Ahmad Abdullah (a.k.a. ABED, Ahmed Abdullah; a.k.a. AL-JUBOURI, Ahmed; a.k.a. KHALAF, Ahmed Abdullah Abid; a.k.a. “Abu Mazen”; a.k.a. “Abu Mazin”), Iraq; DOB 01 Jul 1967; POB Baghdad, Iraq; nationality Iraq; Gender Male; Passport D1017310 (Iraq) expires 14 Apr 2025; National ID No. 00318953 (Iraq) (individual) [GLOMAG].

Designated pursuant to section 1(a)(ii)(B)(1) of E.O. 13818 for being a foreign person who is a current or former government official, or a person acting for or on behalf of such an official, who is responsible for or complicit in, or has directly or indirectly engaged in, corruption, including the misappropriation of state assets, the expropriation of private assets for personal gain, corruption related to government contracts or the extraction of natural resources, or bribery.

Dated: July 18, 2019.
Bradley T. Smith,
Deputy Director, Office of Foreign Assets Control.

[FR Doc. 2019-15594 Filed 7-22-19; 8:45 am]

BILLING CODE 4810-AL-P